DEPARTMENT OF DEFENSE

Office of the Secretary

Preparation of a Supplement to the National Missile Defense Deployment Draft Environmental Impact Statement

AGENCY: Ballistic Missile Defense Organization.

ACTION: Notice of availability.

SUMMARY: The Ballistic Missile Defense Organization (BMDO) announces the availability of a supplement to the National Missile Defense (NMD) Deployment Draft Environmental Impact Statement (EIS). This supplement addresses the potential environmental impacts of proposed replacement of interior electronic hardware and computer software at early warning radar (EWR) facilities at Clear Air Station (AS), Alaska, Beale Air Force Base (AFB), California, and Cape Cod AS, Massachusetts as part of the NMD system. The proposed NMD modifications would not result in any change to peak or average radiated power levels at these facilities, and power density levels would remain well-within current safety standards.

The supplement has been prepared to support a Department of Defense recommendation, currently scheduled for Summer 2000, on whether to deploy the NMD system. The U.S. Air Force, which operates and has real property accountability over the PAVE PAWS EWR facilities, recently announced that it will be conducting an EIS that addresses maintenance and sustainment of its current EWR operations at Clear AS, Beale AFB, and Cape Cod AS. For this reason, if the proposed action in this supplement is selected, its implementation is contingent upon the outcome of the Air Force EIS. The BMDO would reassess its proposed usage of the EWR facilities in light of the results of the Air Force EIS prior to installation of the NMD modifications.

COMMENTS: To obtain a copy of the supplement to the NMD Deployment Draft EIS, please write: U.S. Army Space and Missile Defense Command, Attn: SMDC-EN-V, Post Office Box 1500, Huntsville, Alabama 35807. Individuals or organizations may provide comments on the supplement by sending written comments to: U.S. Army Space and Missile Defense Command, Attn: SMDC-EN-V, Post Office Box 1500, Huntsville, Alabama 35807.

DATES: Public comments are invited and must be postmarked by April 17, 2000.

Dated: February 25, 2000.
L.M. Bynum,
Alternate OSD Federal Register Liaison Office, Department of Defense.

[FR Doc. 00-4970 Filed 3-2-00; 8:45 am]

BILLING CODE 5001-10-P